NATIONAL CREDIT UNION ADMINISTRATION

Sunshine Act Meetings

TIME AND DATE: 10 a.m., July 21, 2022

PLACE: Due to the COVID-19 Pandemic, the meeting will be open to the public via live webcast only. Visit the agency's homepage (www.ncua.gov) and access the provided webcast link.

STATUS: This meeting will be open to the public.

MATTERS TO BE CONSIDERED:

1. Board Briefing, 2022 Mid-Session Budget.

2. NCUA Rules and Regulations, Asset and Supervision Threshold for Determining the Appropriate Supervisory Office.

3. NCUA Rules and Regulations, Cyber Incident Notification Requirements.

CONTACT PERSON FOR MORE INFORMATION: Melane Conyers-Ausbrooks, Secretary of the Board, Telephone: 703-518-6304.

Melane Conyers-Ausbrooks,
Secretary of the Board.

[FR Doc. 2022-15461 Filed 7-15-22; 11:15 am]

BILLING CODE 7535-01-P